DEPARTMENT OF COMMERCE

International Trade Administration

[A-570-036]

Certain Biaxial Integral Geogrid Products from the People's Republic of China: Postponement of Preliminary Determination of Antidumping Duty Investigation

AGENCY: Enforcement and Compliance, International Trade Administration, Department of Commerce.

DATES: June 13, 2016.

FOR FURTHER INFORMATION CONTACT: Julia Hancock or Susan Pulongbarit, AD/CVD Operations, Office V, Enforcement and Compliance, International Trade Administration, U.S. Department of Commerce, 14th Street and Constitution Avenue NW., Washington, DC 20230; telephone: (202) 482-1394, or (202) 482-4031, respectively.

SUPPLEMENTARY INFORMATION:

Postponement of Preliminary Determination

On February 16, 2016, the Department of Commerce (“Department”) published a notice initiating an antidumping duty investigation of certain biaxial integral geogrid products from the People's Republic of China (“PRC”).¹ Section 733(b)(1)(A) of the Tariff Act of 1930, as amended (“the Act”), and 19 CFR 351.205(b)(1) state that the Department will make a preliminary determination no later than 140 days after the date of the initiation (i.e., February 8, 2016). Accordingly, the preliminary determination of this antidumping duty investigation is currently due no later than June 27, 2016.

¹ See Certain Biaxial Integral Geogrid Products from the People's Republic of China: Initiation of Antidumping Duty Investigation, 81 FR 7755 (February 16, 2016).

On May 27, 2016, Tensar Corporation (“Petitioner”), made a timely request, pursuant to 19 CFR 351.205(e), for postponement of the preliminary determination, in order to facilitate the Department's analysis of respondents' questionnaire responses and interested parties' surrogate value data submissions. Because there are no compelling reasons to deny the request, in accordance with section 733(c)(1)(A) of the Act, the Department is postponing the deadline for the preliminary determination by 50 days.²

² See Letter to the Secretary of Commerce from Petitioner “Request to Postpone Preliminary Determination” (May 27, 2016).

For the reasons stated above, the Department, in accordance with section 733(c)(1)(A) of the Act, is postponing the deadline for the preliminary determination to no later than 190 days after the date on which the Department initiated this investigation. Therefore, the new deadline for the preliminary determination is August 16, 2016. In accordance with section 735(a)(1) of the Act, the deadline for the final determination of this investigation will continue to be 75 days after the date of the preliminary determination, unless postponed at a later date.

This notice is issued and published pursuant to section 733(c)(2) of the Act and 19 CFR 351.205(f)(1).

Dated: June 7, 2016.
Paul Piquado,
Assistant Secretary for Enforcement and Compliance.

[FR Doc. 2016-13953 Filed 6-10-16; 8:45 am]

BILLING CODE 3510-DS-P